DEPARTMENT OF HOMELAND SECURITY

8 CFR Parts 103 and 299

[CIS No. 2074-00; DHS Docket No. USCIS-2005-0013]

RIN 1615—AB19

Establishment of a Genealogy Program

AGENCY: U.S. Citizenship and Immigration Services, DHS.

ACTION: Final rule.

SUMMARY: This rule establishes a fee-for-service Genealogy Program within U.S. Citizenship and Immigration Services (USCIS) to streamline and improve the process for acquiring historical records of deceased individuals. Currently, USCIS processes such requests through its Freedom of Information Act/Privacy Act (FOIA/PA) program, thereby adding unnecessary delays to the process.

USCIS expects that this Genealogy Program will ensure a timely response to requests for genealogical and historical records and will relieve USCIS' FOIA/PA program of requests that do not require FOIA/PA expertise. It will put researchers in touch with the correct staff persons within USCIS, and it will create a dedicated queue for genealogists and other researchers seeking access to historical records.

DATES: This rule is effective August 13, 2008.

FOR FURTHER INFORMATION CONTACT: Marian L. Smith, Office of Records Services (ORS), U.S. Citizenship and Immigration Services, Department of Homeland Security, 111 Massachusetts Avenue, NW., Washington, DC 20529, telephone (202) 272-8367.

SUPPLEMENTARY INFORMATION:

Table of Contents

I. Background and Purpose

II. Discussion of Comments

A. Summary of Comments

B. Response to Comments, Generally

C. Response to Comments about Fees

III. Regulatory Analyses

A. Regulatory Flexibility Act

B. Unfunded Mandates Reform Act of 1995

C. Small Business Regulatory Enforcement Fairness Act of 1996

D. Executive Order 12866

E. Executive Order 13132

F. Executive Order 12988

G. Paperwork Reduction Act

I. Background and Purpose

USCIS currently processes requests for historical records of deceased individuals (i.e., genealogical requests) under USCIS' FOIA/PA program. However, the demand for historical records by historical and genealogical researchers, as well as other members of the public, has grown dramatically over the past several years. The volume of genealogical requests has contributed to the USCIS FOIA/PA backlog. USCIS believes that removing genealogy research from the immense FOIA group of “all” requesters would improve service to historical researchers, genealogists, and other members of the public. It would also greatly reduce the number of FOIA requests and improve the ability of USCIS to respond to requests for other non-historical records and materials.

On April 20, 2006, the Department of Homeland Security published a proposed rule in the Federal Register (71 FR 20357), soliciting comments from the public on the establishment of a fee-for-service Genealogy Program in USCIS. As discussed in the proposed rule, the Genealogy Program would accept genealogical research requests directly from requesters. There would be two types of requests: (1) Requests for searching the index of records if the requester is unable to identify a specific historical record; and (2) requests for making copies of historical records the requester can identify by file number. To make a request, the requester would need to submit to the Genealogy Program the appropriate request form, accompanied by any supporting documentation and the applicable fee. The Genealogy Program would handle the entire request/retrieval process.

II. Discussion of Comments

A. Summary of Comments

The comment period for the April 20, 2006 proposed rule closed on June 19, 2006. USCIS received a total of thirty-three comments, including thirty-one comments from individuals identified as either hobbyists or professional genealogists. One of the comments came from an umbrella organization for numerous genealogical societies worldwide. There were twenty-eight positive remarks in favor of USCIS establishing a Genealogy Program. In addition, USCIS received three negative comments that objected to USCIS' establishment of a Genealogy Program.

Of the positive comments, seven requested that the Genealogy Program have an online search capability with public access to the index. Nine supported USCIS' proposal to remove genealogy research from the FOIA program. One of the commenters, an umbrella organization for genealogical societies that was in favor of creating a dedicated fee-for-service Genealogy Program, noted the benefits of such a program. The program would permit individuals to make requests over the Internet, remove those requests from the FOIA program (thereby eliminating the excessive waiting time), and support the creation of a dedicated staff that the public can contact. This commenter noted that the organization and its members approved of a fee-based system and expressed hope that USCIS would balance the final fee range with the issue of affordability for individuals seeking records.

Five commenters discussed the range of fees that USCIS proposed. One commenter stated that fees above $10 will limit access to the documents. A second commenter suggested that the proposed fees would make USCIS-held records “records of last resort,” because a researcher would only submit a request if it were impossible to find the naturalization or immigration information elsewhere. A third commenter opined that the proposed range of fees would substantially dampen people's interest in obtaining such records and stop people from continuing their genealogy research. This commenter further stated that most of the people who do genealogy research are over 50 years old or are senior citizens with finite financial resources. The fourth commenter wrote that the proposed fees were too high for the average genealogy researcher and suggested that fees in the $15 to $25 range would be more affordable. The fifth commenter expressed concern that the proposed fee range of $26 to $55 for a copy of textual documentation is much too high for the average person to afford.

B. Response to Comments, Generally

USCIS will establish the Genealogy Program as a fee-for-service program. USCIS will not expend any of its financial resources, which are dedicated to its overall mission for the administration of immigration and naturalization adjudication functions and establishing immigration services, policies, and priorities.

In many cases, USCIS is the only government agency that will have certain historical records that provide the missing link for which genealogists or family historians are searching. An example is the Visa File packet, which contains the original arrival record of immigrants admitted for permanent residence under provisions of the Immigration Act of 1924. The packet contains information and documents of the immigrant's exact date and place of birth, names of parents and children, all places of residence for five full years prior to immigration, and photographs. In addition, some Visa packets contain birth, marriage, and military records. USCIS will join other Federal agencies that provide record search and document production services (for a fee) to family researchers and genealogists.

C. Response to Comments About Fees

In the proposed rule, USCIS provided a detailed analysis about fees and specifically requested comment on the issue of fees. 71 FR at 20363. Several commenters provided input on fees, and those comments are summarized above. In response, USCIS provides the following explanation on its basis for establishing fees and setting the amounts of the fees.

In the proposed rule, USCIS proposed a fee range of $16 to $45 for an index search and $16 to $45 for a record/file services request. 71 FR at 20362. USCIS had calculated these proposed fees in accordance with Office of Management and Budget (OMB) Circular A-25, which requires that user fees recover the full cost of services provided. OMB Circular A-25, User Charges (Revised), section 6, 58 FR 38142 (July 15, 1993) (OMB Circular A-25). Full cost under OMB Circular A-25 includes items such as management and personnel costs (salaries and benefits), physical overhead, consulting, materials and supplies, utilities, insurance, travel, and rent of building space and equipment. As was discussed in the proposed rule, the services to be provided under the USCIS Genealogy Program will be significantly enhanced from what is currently provided under existing FOIA/PA processing.

The fees that USCIS will charge to provide services that are described in this rule will cover the costs of that enhanced service as well as overhead items as required by OMB Circular A-25. The full cost of this service will include the cost of research and information collection, a description of the document, suggestions of where to locate records from other federal or state agencies, establishment of procedures and standards, and the issuance of regulations. Thus, the fees must be established at a level that recovers these costs.

OMB Circular A-25 also provides that, when costs are not known, such as when an agency is developing and implementing a new fee for a service program, an agency may establish fees based on a study and comparison of other comparable fee-based services provided by other governmental entities. Since the genealogy program is new, USCIS utilized this method of fee determination in addition to analyzing the actual costs projected to carry out the program. No other organization provides exactly the same service, because no other organization holds precisely the same variety or volume of records. USCIS, however, considered the fees charged by a few similar organizations. As stated in the proposed rule, USCIS considered the fees charged by the Social Security Administration, the National Archives and Records Administration, the Department of Interior's Bureau of Land Management, and a few state agencies.

After considering the comments received on the proposed rule, the costs of providing this service, OMB requirements, and the fees charged for similar services, USCIS has decided to set the search and document reproduction fees for the Genealogy Program as follows:

Index Search: $20.

Copy of Document from Microfilm: $20.

Copy of Textual File: $35.

Chart 1 lists the records that the public would be able to request from the Genealogy Program versus the records that the public would be able to request from the FOIA/PA program.

Chart 1
Genealogy program | FOIA/PA program
Files of deceased subjects. (Provided files are defined as historical records.) | Files of living subjects.
Naturalization Certificate Files (C-Files) from 9/27/1906 to 4/1/1956 | Naturalization records on or after 4/1/1956.
Visa Files from 7/1/1924 to 3/31/1944 and Visa records from 3/31/1944 to 5/1/1951 in A-files | Visa records on or after 5/1/1951 in A-Files.
A-Files below 8 million and documents therein dated prior to 5/1/1951 | A-files above 8 million and documents therein dated on or after 5/1/1951.
Registry Files from 3/2/1929 to 3/31/1944 and registry records from 4/1/1944 to 4/30/1951 in A-files | Registry records on or after 5/1/1951 in A-Files.
AR-2 Files from 8/1/1940 to 3/31/1944 and Alien Registration Forms from 3/31/1944 to 4/30/1951 in A-Files | Alien Registration Forms on or after 5/1/1951 in A-Files.

III. Regulatory Analyses

A. Regulatory Flexibility Act

In accordance with the Regulatory Flexibility Act (5 U.S.C. 605(b)), DHS certifies that this rule will not have a significant economic impact on a substantial number of small entities because of the following factors:

This rule affects professional genealogists and other members of the public requesting historical records from USCIS. The main source of genealogy requests comes from individuals doing personal research, rather than from small entities, such as professional genealogists. “The Washington Post” reported that seventy-three percent of Americans have an interest in their family history, according to a 2005 study conducted by Market Strategies, Inc., a syndicated research firm based in Livonia, Michigan, and MyFamily.com, an online network of genealogical tools based in Provo, Utah. “The Wall Street Journal” described genealogy as a $200 million per year industry ranging from individual researchers to multi-million dollar companies.

In addition, the growth of the Internet has spurred interest in genealogy and a rapidly growing number of hobbyists pursuing genealogy. According to the “Occupational Outlook Quarterly” (Bureau of Labor Statistics, Fall 2000), a 1997 survey of certified genealogists found that 57 percent work part-time, 34 percent work full-time, and 9 percent are hobbyists. In 2001, there were over 300 certified genealogists, and currently, the Association of Professional Genealogists has 1,600 members worldwide (http://www.apgen.org). The National Genealogical Society notes:

Some professional genealogists are employed as librarians, archivists, editors or research assistants to established professionals; others work for genealogical firms. Most, however, choose self-employment-learning business principles to ensure the success of their genealogical practice. As with other entrepreneurial fields, most make the move gradually from their original field of employment, building a practice—be it a client base, writing outlets, or some other venue—before moving full-time into genealogy. Some make this career switch in mid-life. Others choose genealogy as a second career upon retirement from their first one. Because genealogical degree programs are still relatively rare, only a few enjoy the opportunity to make genealogy their first career. No accurate count exists for the number of individuals employed as genealogists, full-time and part-time (http://www.ngsgenealogy.org/articles/profession.cfm).

With the growth of the Internet, the number of individuals and hobbyists has grown at a much faster rate. Much of the growth in genealogy as a sector arises from providing individuals with the means of conducting their own family history research through online databases and research tools. The growing dominance of individual hobbyists suggests that individuals rather than professionals are the primary requesters of historical records. Professional genealogists tend to be hired when individuals hit a “brick wall,” or encounter a particular problem that they cannot resolve. This suggests that professional researchers tend to focus on aspects of genealogy research other than the standard index searches or record requests that would be submitted to the USCIS Genealogy Program.

In each of the past 4 years, USCIS has received an average of 10,000 combined index search and/or records requests for historical records through the FOIA program. For purposes of counting records, USCIS counts each request for a record search as one request. Based on an estimated increase in the demand for historical information and the fact that the Genealogy Program will treat index search requests and records requests as separate rather than combined requests, DHS expects the total number of genealogy requests to be significantly higher than when the FOIA Program handled genealogical requests. DHS estimates that it will receive a combined total of 26,597 genealogy requests, including 15,250 index search requests, 6,619 requests for microfilm records, and 4,728 requests for textual records.

DHS has determined that individuals make requests for historical records. If professional genealogists and researchers have submitted such requests, they are not identifying themselves as commercial requesters and thus cannot be segregated in the data. Genealogists typically advise clients on how to submit their own requests. Reasons for this practice include the time required for a response to the request and the belief that records are more releasable to a relative rather than an unrelated third party.

Based on discussions with professional genealogists, USCIS believes that professional genealogists and researchers who fall under the approved definition from the Small Business Association definition of a small entity in this category (i.e., All Other Professional, Scientific, and Technical Services with annual average receipts of $6 million or less) generate well below 5 percent of the total number of requests. If USCIS assumes that professional genealogists and researchers account for 5 percent of the requests, and these costs are borne exclusively by the 1,600 members of the Association of Professional Genealogists, the average impact would be $18.84 per year. This figure was derived by multiplying the total cost of the rule $602,860 by .5% (the percentage of small entities) and divided by 1,600 (the number of small entities.)

These practices arise from the nature of the genealogy sector. Professional genealogists charge from $10 to $100 per hour, with an average of $30 to $60 per hour, according to the Association of Professional Genealogists (http://www.apgen.org/articles/hire.html). Expenses, such as record requests and copies, are often charged to the client as an additional expense. The fees established with this rule could be passed along as a direct expense to the professional genealogists' client, thus no significant economic impact would be borne by the professional genealogist. Specialists typically charge a relatively higher fee. (http://www.progenealogists.com/compare.htm). In addition, many professionals require a retainer of $300 to $500. See Sue P. Morgan, “What You Should Know Before Hiring a Professional Genealogist,” available at http://www.genservices.com/docs/HiringAPro.htm.

Depending on the depth of the research, the fees for a genealogical study can be substantial. This does not suggest a substantial burden on researchers. Given the low number of professional genealogists and researchers that would be impacted by this rule, the resulting degree of economic impact would not require DHS to perform Regulatory Flexibility Analysis.

B. Unfunded Mandates Reform Act of 1995

This rule will not result in the expenditure by State, local and tribal governments, in the aggregate, or by the private sector, of $100 million or more in any one year, and it will not significantly or uniquely affect small governments. Therefore, no actions were deemed necessary under the provisions of the Unfunded Mandates Reform Act of 1995.

C. Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

D. Executive Order 12866

It has been determined that this rule is not a significant regulatory action under section 3(f) of Executive Order 12866, Regulatory Planning and Review. Nonetheless, USCIS has assessed both the costs and benefits of this rule and has determined that the benefits of this regulation justify its costs. The anticipated benefits of this rule are: (1) Relieve the FOIA/PA program from burdensome requests that require no FOIA/PA expertise; (2) place requesters and the Genealogy staff in direct communication; (3) provide a dedicated queue and point of contact for genealogists and other researchers seeking access to those records described as historical records; (4) generate sufficient revenue to cover expenses as a fee for service program; and (5) reduce the time it takes for USCIS to respond to these genealogy requests.

The cost to the public of this rule will be $20 for a request for an index search, $20 for a request for a copy of a file on microfilm, and $35 for a request for a copy of a textual file. USCIS is authorized to charge a fee to recover the full costs of providing research and information services under section 286(t) of the Immigration and Nationality Act, 8 U.S.C. 1356(t). Other sources exist for many types of genealogical research, and it is not evident that every search by a genealogist would require access to the Genealogy Program at USCIS.

Based upon these fees, it is possible to approximate the impact of fees on individual and professional genealogists and researchers. USCIS expects to receive approximately 15,250 genealogical (name) index search requests per year, which, at $20 per search, would yield $305,000; in addition, there would be a total of 6,619 requests for microfilmed records, and 4,728 requests for textual records (i.e., hard copy files). The fee for microfilmed records would yield $132,380. The fee to pull textual records would yield $165,480. Therefore, the total fees collected by the Genealogy Program should yield $602,860.

Establishing the Genealogy Program will benefit both individuals and researchers making genealogy requests for historical records as well as those seeking information under the current FOIA/PA program, because it will allow for a more timely response for both sets of requests. USCIS estimates that it received an average of 10,000 combined index search and record requests per year for genealogical information in each of the past 4 fiscal years through the existing FOIA/PA program. USCIS can release these records without redaction or withholding, eliminating the need for FOIA/PA analysis. A program specifically designed to handle these requests would expedite the process and improve services to historical researchers, genealogists and the general public. For example, the rule does not increase information collection requirements of the rule. In fact, the introduction of e-filing presents an opportunity to simplify the information collection process and expedite handling. At the same time, the resources of the FOIA/PA program could be applied more efficiently to requests more directly related to immigration, citizenship, or naturalization benefits that require more detailed FOIA/PA analysis.

E. Executive Order 13132

This rule will not have a substantial direct effect on the States, on the relationship between the national government and the States, or on the distribution of power and responsibilities among the various levels of government. Therefore, in accordance with section 6 of Executive Order 13132, USCIS has determined that this rule does not have federalism implications to warrant the preparation of a federalism summary impact statement. It provides for alternate document handling procedures that do not implicate state government.

F. Executive Order 12988

This rule meets the applicable standards set forth in sections 3(a) and 3(b)(2) of Executive Order 12988.

G. Paperwork Reduction Act

The Office of Management and Budget approved the information collection requirements for the use of Forms G-1041, Genealogy Search Request, and G-1041A, Genealogy Records Request, contained in this rule. The OMB control number for this collection is 1615-0096.

List of Subjects

8 CFR Part 103

Administrative practice and procedure, Authority delegations (Government agencies), Freedom of Information, Privacy, Reporting and recordkeeping requirements, Surety bonds.

8 CFR Part 299

Immigration, Reporting and recordkeeping requirements.

Accordingly, chapter I of title 8 of the Code of Federal Regulations is amended as follows:

PART 103—POWERS AND DUTIES; AVAILABILITY OF RECORDS

1. The authority citation for part 103 continues to read as follows:

Authority: 5 U.S.C. 301, 552, 552a; 8 U.S.C. 1101, 1103, 1304, 1356; 31 U.S.C. 9701; Public Law 107-296, 116 Stat. 2135 (6 U.S.C. 1 et seq.), E.O. 12356, 47 FR 14874, 15557, 3 CFR, 1982 Comp., p. 166; 8 CFR part 2.

2. Section 103.7 is amended by:

a. Adding the entries “Form G-1041” and “Form G-1041A” in proper alpha/numeric sequence, in paragraph (b)(1); and by

b. Revising the fifth sentence in paragraph (c)(1).

The additions and revision read as follows:

§ 103.7 Fees.

* * * * *

(b) * * *

(1) * * *

* * * * *

Form G-1041. For filing a request for a search of indices to historical records to be used in genealogical research—$20. The search fee is not refundable.

Form G-1041A. For filing a request for a copy of historical records to be used in genealogical research—$20 for each file copy from microfilm or $35 for each file copy from a textual record. In some cases, the researcher may be unable to determine the fee, because the researcher will have a file number obtained from a source other than the USCIS Genealogy Program and therefore not know the format of the file (microfilm or hard copy). In this case, if USCIS locates the file and it is a textual file, the Genealogy Program will notify the researcher to remit the additional $15. The Genealogy Program will refund the records request fee only when it is unable to locate the file previously identified in response to the index search request.

* * * * *

(c) * * *

(1) * * * The fees for Form I-907, Request for Premium Processing Services, and for Forms G-1041 and G-1041A, Genealogy Program request forms, may not be waived.

* * * * *

3. Section 103.38 is added to read as follows:

§ 103.38 Genealogy Program.

(a) Purpose. The Department of Homeland Security, U.S. Citizenship and Immigration Services Genealogy Program is a fee-for-service program designed to provide genealogical and historical records and reference services to genealogists, historians, and others seeking documents maintained within the historical record systems.

(b) Scope and limitations. Sections 103.38 through 103.41 comprise the regulations of the Genealogy Program. These regulations apply only to searches for and retrieval of records from the file series described as historical records in 8 CFR 103.39. These regulations set forth the procedures by which individuals may request searches for historical records and, if responsive records are located, obtain copies of those records.

4. Section 103.39 is added to read as follows:

§ 103.39 Historical Records.

Historical Records are files, forms, and documents now located within the following records series:

(a) Naturalization Certificate Files (C-Files), from September 27, 1906 to April 1, 1956. Copies of records relating to all U.S. naturalizations in Federal, State, county, or municipal courts, overseas military naturalizations, replacement of old law naturalization certificates, and the issuance of Certificates of Citizenship in derivative, repatriation, and resumption cases. The majority of C-Files exist only on microfilm. Standard C-Files generally contain at least one application form (Declaration of Intention and/or Petition for Naturalization, or other application) and a duplicate certificate of naturalization or certificate of citizenship. Many files contain additional documents, including correspondence, affidavits, or other records. Only C-Files dating from 1929 onward include photographs.

(b) Microfilmed Alien Registration Forms, from August 1, 1940 to March 31, 1944. Microfilmed copies of 5.5 million Alien Registration Forms (Form AR-2) completed by all aliens age 14 and older, residing in or entering the United States between August 1, 1940 and March 31, 1944. The two-page form called for the following information: Name; name at arrival; other names used; street address; post-office address; date of birth; place of birth; citizenship; sex; marital status; race; height; weight; hair and eye color; date, place, vessel, and class of admission of last arrival in United States; date of first arrival in United States; number of years in United States; usual occupation; present occupation; name, address, and business of present employer; membership in clubs, organizations, or societies; dates and nature of military or naval service; whether citizenship papers filed, and if so date, place, and court for declaration or petition; number of relatives living in the United States; arrest record, including date, place, and disposition of each arrest; whether or not affiliated with a foreign government; signature; and fingerprint.

(c) Visa Files, from July 1, 1924 to March 31, 1944. Original arrival records of immigrants admitted for permanent residence under provisions of the Immigration Act of 1924. Visa forms contain all information normally found on a ship passenger list of the period, as well as the immigrant's places of residence for 5 years prior to emigration, names of both the immigrant's parents, and other data. In most cases, birth records or affidavits are attached to the visa, and in some cases, marriage, military, or police records may also be attached to the visa.

(d) Registry Files, from March 2, 1929 to March 31, 1944. Original records documenting the creation of immigrant arrival records for persons who entered the United States prior to July 1, 1924, and for whom no arrival record could later be found. Most files also include documents supporting the immigrant's claims regarding arrival and residence (e.g., proofs of residence, receipts, and employment records).

(e) Alien-Files numbered below 8 million (A8000000), and documents therein dated prior to May 1, 1951. Individual alien case files (A-files) became the official file for all immigration records created or consolidated after April 1, 1944. The United States issued A-numbers ranging up to approximately 6 million to aliens and immigrants who were within or entered the United States between 1940 and 1945. The United States entered the 6 million and 7 million series of A-numbers between circa 1944 and May 1, 1951. Any documents dated after May 1, 1951, though found in an A-File numbered below 8 million, will remain subject to FOIA/PA restrictions.

5. Section 103.40 is added to read as follows:

§ 103.40 Genealogical Research Requests.

(a) Nature of requests. Genealogy requests are requests for searches and/or copies of historical records relating to a deceased person, usually for genealogy and family history research purposes.

(b) Manner of requesting genealogical searches and records. Requests must be submitted on Form G-1041, Genealogy Index Search Request, or Form G-1041A, Genealogy Records Request, and mailed to the address listed on the form. Beginning on August 13, 2008, USCIS will accept requests electronically through its Web site at http://www.USCIS.gov. A separate request on Form G-1041 must be submitted for each individual searched, and that form will call for the name, aliases, and all alternate spellings relating to the one individual immigrant. Form G-1041A may be submitted to request one or more separate records relating to separate individuals.

(c) Information required to perform index search. As required on Form G-1041, all requests for index searches to identify records of individual immigrants must include the immigrant's full name (including variant spellings of the name and/or aliases, if any), date of birth, and place of birth. The date of birth must be at least as specific as a year, and the place of birth must be at least as specific as a country (preferably the country name as it existed at the time of the immigrant's immigration or naturalization). Additional information about the immigrant's date of arrival in the United States, residence at time of naturalization, name of spouse, and names of children may be required to ensure a successful search.

(d) Information required to retrieve records. As required on Form G-1041A, requests for copies of historical records or files must identify the record by number or other specific data used by the Genealogy Program Office to retrieve the record. C-Files must be identified by a naturalization certificate number. Forms AR-2 and A-Files numbered below 8 million must be identified by Alien Registration Number. Visa Files must be identified by the Visa File Number. Registry Files must be identified by the Registry File Number (for example, R-12345).

(e) Information required for release of records. Subjects will be presumed deceased if their birth dates are more than 100 years prior to the date of the request. In other cases, the subject is presumed to be living until the requestor establishes to the satisfaction of the Genealogy Program Office that the subject is deceased. As required on Form G-1041A, primary or secondary documentary evidence of the subject's death will be required (including but not limited to death records, published obituaries or eulogies, published death notices, church or bible records, photographs of gravestones, and/or copies of official documents relating to payment of death benefits). All documentary evidence must be attached to Form G-1041A or submitted in accordance with instructions provided on Form G-1041A.

(f) Processing of index search requests. This service is designed for customers who are unsure whether USCIS has any record of their ancestor, or who suspect a record exists but cannot identify that record by number. Each request for index search services will generate a search of the indices to determine the existence of responsive historical records. If no record is found, USCIS will notify the customer accordingly. If records are found, USCIS will provide the customer with the search results, including the type of record found and the file number or other information identifying the record. The customer can use this information to request a copy of the record(s).

(g) Processing of record copy requests. This service is designed for customers who can identify a specific record or file to be retrieved, copied, reviewed, and released. Customers may identify one or more files in a single request. However, separate fees will apply to each file requested. Upon receipt of requests identifying specific records by number or other identifying information, USCIS will retrieve, review, duplicate, and then mail the record(s) to the requester. It is possible that USCIS will find a record that contains data that is not releasable to the customer. An example would be names and birth dates of persons who might be living. The FOIA/PA only permits release of this type of information when the affected individual submits a release authorization to USCIS. Therefore, the Genealogy Program Office will contact and inform the customer of this requirement. The customer will have the opportunity to submit the release authorization. The customer can also agree to the transfer of the document request to the FOIA/PA program for treatment as a FOIA/PA request as described in 6 CFR Part 5. Document retrieval charges will apply in all cases where documents are retrieved.

6. Section 103.41 is added to read as follows:

§ 103.41 Genealogy request fees.

(a) Genealogy search fee. See 8 CFR 103.7(b)(1).

(b) Genealogy records fees. See 8 CFR 103.7(b)(1).

(c) Manner of submission. When a request is submitted online, credit card payments are required. These payments will be processed through the Treasury Department's Pay.Gov financial management system. Cashier's checks or money orders in the exact amount must be submitted for requests submitted with Form G-1041 or Form G-1041A in accordance with 8 CFR 103.7(a)(1). Personal Checks will not be accepted.

PART 299—IMMIGRATION FORMS

7. The authority citation for part 299 continues to read as follows:

Authority: 8 U.S.C. 1101 and note, 1103; 8 CFR part 2.

8. Section 299.1 is amended in the table by adding “G-1041” and “G-1041A”, in proper alpha/numeric sequence, to read as follows:

§ 299.1 Prescribed forms.

* * * * *

Form No. | Edition date | Title
* * * * * * *
G-1041 | 11/15/06 | Genealogy Index Search Request.
G-1041A | 11/15/06 | Genealogy Records Request.
* * * * * * *

9. Section 299.5 is amended in the table by adding entries for Forms “G-1041” and “G-1041A”, in proper alpha/numeric sequence, to read as follows:

§ 299.5 Display of control numbers.

* * * * *

Form No. | Form title | Currently assigned OMB control No.
* * * * * * *
G-1041 | Genealogy Index Search Request | 1615-0096
G-1041A | Genealogy Records Request | 1615-0096
* * * * * * *

Michael Chertoff,
Secretary.

[FR Doc. E8-10651 Filed 5-14-08; 8:45 am]

BILLING CODE 9111-97-P